DEPARTMENT OF COMMERCE

International Trade Administration

[C-570-195]

Active Anode Material From the People's Republic of China: Amended Preliminary Determination of Countervailing Duty Investigation

AGENCY: Enforcement and Compliance, International Trade Administration, Department of Commerce.

SUMMARY: The U.S. Department of Commerce (Commerce) is amending the preliminary affirmative countervailing duty (CVD) determination for active anode material from the People's Republic of China (China) to correct significant ministerial errors.

DATES: Applicable July 2, 2025.

FOR FURTHER INFORMATION CONTACT: Benjamin Nathan or Gorden Struck, AD/CVD Operations, Office II, Enforcement and Compliance, International Trade Administration, U.S. Department of Commerce, 1401 Constitution Avenue NW, Washington, DC 20230; telephone: (202) 482-3834 or (202) 482-8151, respectively.

SUPPLEMENTARY INFORMATION:

Background

In accordance with section 703(b) of the Tariff Act of 1930, as amended (the Act), and 19 CFR 351.205(b), on May 28, 2025, Commerce published its preliminary affirmative determination in the CVD investigation of active anode material from China.¹ On May 28, 2025, we received timely ministerial error allegations from the American Active Anode Material Producers (the petitioner) alleging that Commerce made a significant ministerial error in the Preliminary Determination with respect to the subsidy rates calculated for Panasonic Global Procurement (China) Co., Ltd. (GPC), and Panasonic Corporation of China (PCN) (collectively, Panasonic) and BTR New Material Group Co., Ltd.² On June 2, 2025, Panasonic and BTR New Material Group Sales Co., Ltd., BTR (Jiangsu) New Energy Material Co., Ltd. and BTR New Material Group Co., Ltd. (BTR) submitted ministerial error rebuttal comments.³

¹ See Active Anode Material from the People's Republic of China: Preliminary Affirmative Countervailing Duty Determination and Alignment of Final Determination With Final Antidumping Duty Determination, 90 FR 22465 (May 28, 2025) (Preliminary Determination), and accompanying Preliminary Determination Memorandum (PDM).

² See Petitioner's Letter, “Ministerial Error Comments,” dated May 28, 2025.

³ See Panasonic's Letter, “Rebuttal to Petitioner's Ministerial Error Allegations,” dated June 2, 2025; see also BTR's Letter, “Rebuttal to Petitioner's Preliminary Determination Ministerial Error Comments,” dated June 2, 2025.

Period of Investigation

The period of investigation (POI) is January 1, 2023, through December 31, 2023.

Scope of the Investigation

The product covered by this investigation is active anode material from China. For a complete description of the scope of this investigation, see the Preliminary Determination.

Analysis of Significant Ministerial Error Allegations

According to 19 CFR 351.224(e), Commerce will analyze any comments received and, if appropriate, correct any significant ministerial error by amending the preliminary determination. A ministerial error is defined in 19 CFR 351.224(f) as “an error in addition, subtraction, or other arithmetic function, clerical error resulting from inaccurate copying, duplication, or the like, and any other similar type of unintentional error which the Secretary considers ministerial.” ⁴ A significant ministerial error is defined as a ministerial error, the correction of which, singly or in combination with other errors, would result in: (1) a change of at least five absolute percentage points in, but not less than 25 percent of, the CVD rate calculated in the original preliminary determination; or (2) a difference between a CVD rate of zero (or de minimis) and a CVD rate greater than de minimis, or vice versa.⁵

⁴ See section 705(e) of the Act.

⁵ See 19 CFR 351.224(g).

Methodology

In the Preliminary Determination, Commerce made a significant ministerial error within the meaning of section 705(e) of the Act and 19 CFR 351.224(f) and (g)(1) in calculating the countervailable subsidy rate for Panasonic. Consistent with 19 CFR 351.224(e), Commerce is amending the Preliminary Determination to reflect the correction of this significant ministerial error. Commerce also made other ministerial errors, within the meaning of 19 CFR 351.224(f), in the calculation of the countervailable subsidy rate for Panasonic. These errors, in and of themselves, are not significant within the meaning of 19 CFR 351.224(g). However, because correcting for these errors in combination with the other significant ministerial error alleged by the petitioner satisfies the requirements of 19 CFR 351.224(g)(1), we are also correcting for these errors by amending the Preliminary Determination, consistent with 19 CFR 351.224(e). In correcting for these errors by amending the Preliminary Determination, consistent with 19 CFR 351.224(e), we are revising the calculations for Panasonic's subsidy rate and the all-others rate. For a complete discussion of ministerial errors, see the Preliminary Ministerial Error Memorandum.⁶

⁶ See Memorandum, “Analysis of Ministerial Errors in the Preliminary Determination,” dated concurrently with this notice (Preliminary Ministerial Error Memorandum).

Amended Preliminary Determination

As a result of correcting the ministerial errors described above, we determine the following amended preliminary net countervailable subsidy rates for Panasonic and all other producers/exporters:

Company | Subsidy rate (percent ad valorem)
Panasonic Global Procurement China Co., Ltd.; Panasonic Corporation of China ⁷ | 11.58
Shanghai Shaosheng Knitted Sweat | * 721.03
Huzhou Kaijin New Energy Technology Corp., Ltd | * 721.03
All Others | 11.58
* Rate based on facts available with adverse inferences.

Disclosure

Commerce intends to disclose its calculations and analysis performed to interested parties in this amended preliminary determination within five days of its public announcement, or if there is no public announcement, within five days of the date of publication of this notice in the Federal Register, in accordance with 19 CFR 351.224.

⁷ Panasonic is a trading company that sold subject merchandise produced by an unaffiliated supplier BTR New Material Group Co., Ltd., BTR (Jiangsu) New Energy Material Co., Ltd., and BTR New Material Group Sales Co., Ltd., (collectively, BTR) and BTR's affiliates. We are cumulating the benefits received by BTR and BTR's affiliates with the benefits received by Panasonic into one rate for Panasonic. For further explanation, see Preliminary Determination PDM at 2-4 and 28-29.

Amended Cash Deposits and Suspension of Liquidation

The collection of cash deposits and suspension of liquidation will be established according to the rates calculated in this amended preliminary determination. Because the amended rates for Panasonic and all-others result in increased cash deposits, they will be effective on the date of the publication of this notice in the Federal Register. Parties will be notified of this determination, in accordance with section 703(d) and (f) of the Act.

U.S. International Trade Commission Notification

In accordance with section 703(f) of the Act, we will notify the ITC of our amended preliminary determination.

Notification to Interested Parties

This notice is issued and published pursuant to sections 703(f) and 777(i) of the Act, and 19 CFR 351.224(e).

Dated: June 27, 2025.
Christopher Abbott,
Deputy Assistant Secretary for Policy and Negotiations, performing the non-exclusive functions and duties of the Assistant Secretary for Enforcement and Compliance.

[FR Doc. 2025-12374 Filed 7-1-25; 8:45 am]

BILLING CODE 3510-DS-P